DEPARTMENT OF HEALTH AND HUMAN SERVICES

Office of the National Coordinator: American Health Information Community Meeting; Cancellation and New Meeting Date

SUMMARY: This notice announces the fifth meeting of the American Health Information Community in accordance with the Federal Advisory Committee Act (Pub. L. 92-463, 5 U.S.C., App.) The American Health Information Community will advise the Secretary and recommend specific actions to achieve a common interoperability framework for health information technology (IT). The April 25, 2006 meeting has been canceled.

New Date: May 16, 2006 from 8:30 a.m. to 4 p.m.

ADDRESSES: Hubert H. Humphrey building (200 Independence Avenue, SW., Washington, DC 20201), Conference Room 800.

FOR FURTHER INFORMATION CONTACT: http://www.hhs.gov/healthit/ahic.html.

SUPPLEMENTARY INFORMATION: A Webcast of the Community meeting will be availabe on the NIH Web site at: http://www.videocast.nih.gov/.

If you have special needs for the meeting please contact (202) 690-7151.

Kelly Cronin,
Director, Office of Programs and Coordination, Office of the National Coordinator.

[FR Doc. 06-3495 Filed 4-11-06; 8:45 am]

BILLING CODE 4150-24-M